DEPARTMENT OF COMMERCE

National Telecommunications and Information Administration

Announcement of Performance Review Board Members

AGENCY: National Telecommunications and Information Administration, Department of Commerce.

ACTION: Notice of Performance Review Board Membership.

SUMMARY: 5 CFR 430.310 requires agencies to publish notice of Performance Review Board appointees in the Federal Register before their service begins. This notice announces the names of new and existing members of the National Telecommunications and Information Administration's Performance Review Board.

FOR FURTHER INFORMATION CONTACT: Anthony Calza, National Telecommunications and Information Administration, Chief, Management Division, at (202) 482-2196, Room 4888, Washington, DC 20230.

SUPPLEMENTARY INFORMATION: The purpose of the Performance Review Board is to review and make recommendations to the appointing authority on performance management issues such as appraisals, bonuses, pay level increases, and Presidential Rank Awards for members of the Senior Executive Service.

The Assistant Secretary for Communications and Information, John M. R. Kneuer, has named the following members of the National Telecommunications and Information Administration's Performance Review Board:

1. Daniel C. Hurley, Director, Communications and Information Infrastructure Assurance Program (Chairperson)

2. Bernadette McGuire-Rivera, Associate Administrator for Telecommunications and Information Applications (existing)

3. Renee Macklin, Chief Information Officer, International Trade Administration, (Outside reviewer, new)

4. Alan W. Vincent, Associate Administrator for Telecommunications Sciences and Director, Institute for Telecommunication Sciences (existing)

5. Michael J. Crison, Director, Requirements, Planning and Systems Integration Division, National Oceanic and Atmospheric Administration (Outside reviewer)

6. Karl B. Nebbia, Associate Administrator for Spectrum Management (new)

Dated: October 5, 2007.
Deborah Martin,
Acting, Human Resources Officer.

[FR Doc. E7-20740 Filed 10-19-07; 8:45 am]

BILLING CODE 3510-60-P